DEPARTMENT OF THE INTERIOR

Bureau of Land Management

[UT-070-1610-DP-011J]

Supplement to Notice of Availability of the Draft Resource Management Plan and Draft Environmental Impact Statement for the Price Field Office To List Proposed Areas of Critical Environmental Concern and Specific Associated Resource Use Limitations for Public Lands in Carbon and Emery Counties, UT

AGENCY: Bureau of Land Management, Interior.

ACTION: Notice of availability.

SUMMARY: A notice of availability for the Draft Resource Management Plan (RMP) and Environmental Impact Statement (EIS) for the Price Field Office planning area in Carbon and Emery Counties, Utah was published in the Federal Register, volume 69, number 136, Friday, July 16, 2004. This supplements that Notice with information on existing and potential Areas of Critical Environmental Concern (ACECs) considered within the Draft RMP and EIS, as required in 43 CFR 1610.7-2. The CFR also provides an associated 60-day comment period.

DATES: The comment period will commence with the publication of this notice in the Federal Register and end 60 days after its publication.

ADDRESSES: Written comments on ACECs should be sent to the Bureau of Land Management, Price Field Office, 125 South 600 West, Price, UT 84501. If you have already submitted comments during the comment period for the Draft RMP and EIS held from July 16, 2004, to November 30, 2004, they will be considered for the Proposed RMP and Final EIS, and there is no need to resubmit them in response to this notice.

Comments, including names and street addresses of respondents, will be available for public review at the Price Field Office during regular business hours, 8 a.m. to 4:30 p.m., Monday through Friday, except holidays and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirety.

FOR FURTHER INFORMATION CONTACT: Floyd Johnson, Assistant Field Manager, BLM Price Field Office, 125 South 600 West, Price, UT 84501, phone 435-636-3600.

SUPPLEMENTARY INFORMATION: The Price Field Office planning area includes all of the public land and Federal mineral ownership managed by the Price Field Office in Carbon and Emery Counties, Utah. This area includes approximately 2.5 million acres of BLM-administered surface lands and 2.8 million acres of Federal mineral lands under Federal, State, and private surface in the area. The decisions of the Price RMP will only apply to BLM-administered public lands and Federal mineral estate.

The Draft RMP/EIS addresses five alternatives and provides proposed management decisions and impact analysis of the alternatives. The number and acreages of ACECs that would be designated vary by alternative. For example, Alternative A would designate eight ACECs comprising 167,439 public surface acres, while Alternative C would designate 19 ACECs comprising 642,516 acres. Resource use limitations applied to the ACECs also vary by alternative in some cases. There are presently 13 existing designated ACECs (289,629 total acres) in the Price Field Office, which were established by the San Rafael RMP (1991). These are reflected in the No Action Alternative of the Draft RMP and EIS. There are also 9 potential ACECs (286,416 total acres), each of which is being considered in at least one action alternative. Specific ACEC proposals, including resource use limitations, are described in detail by alternative in Chapter 2 of the Draft RMP/EIS. A summary of this information follows:

The 13 currently designated ACECs that are being reconsidered are as follows: Big Flat Tops ACEC (192 acres), Copper Globe ACEC (128 acres), San Rafael Canyon ACEC (49,791 acres), Sids Mountain ACEC (55,165 acres), Bowknot Bend ACEC (1,087 acres), Dry Lake Archaeological District ACEC (18,007 acres), Pictographs ACEC (43 acres), San Rafael Reef ACEC (74,102 acres), Muddy Creek ACEC (25,751 acres), Segers Hole ACEC (7,369 acres), Highway I-70 Scenic ACEC (39,488 acres), Swasey's Cabin ACEC (60 acres) and Temple Mountain ACEC (2,442 acres). These currently designated ACECs would continue to be designated in the No Action Alternative and in at least one of the action alternatives. Boundaries and acreages vary by alternative for the San Rafael Canyon ACEC, Sids Mountain ACEC, and Highway I-70 Scenic ACEC (acreage figures shown above are for existing ACEC boundaries). Resource use limitations for all currently designated ACECs vary by alternative and relate to leasing for oil and gas, locatable mineral entry, right-of-way (ROW) grants, private or commercial use of woodland products, livestock use, land treatments and range improvements, visual resource management (VRM), off-highway vehicle (OHV) use, disposal of mineral materials, and fire suppression activities. In addition, cultural resource considerations are made for Dry Lake Archaeological District ACEC, Pictographs ACEC, San Rafael Reef ACEC, Muddy Creek ACEC, Segers Hole ACEC, and Highway I-70 Scenic ACEC. Under all action alternatives, the Pictographs ACEC name would change to the Rock Art ACEC and 12 sites would be added, totaling 16,047 acres. Under Alternatives C and D, Swasey's Cabin ACEC and Temple Mountain ACEC would be included as a part of the Heritage Sites Potential ACEC.

The 9 potential ACECs being considered are the Lower Green River Potential ACEC (38,317 acres), Gordon Creek Potential ACEC (2,620 acres), Beckwith Plateau Potential ACEC (50,531 acres), Temple-Cottonwood-Dugout Wash Potential ACEC (72,796 acres), Nine Mile Canyon Potential ACEC (48,861 acres), Range Creek Potential ACEC (65,495 acres), Cleveland-Lloyd Dinosaur Quarry Potential ACEC (767 acres), Heritage Sites Potential ACEC (2,862 acres, 7 locations) and Uranium Mining Districts Potential ACEC (4,167 acres, 4 locations).

The Lower Green River Potential ACEC, Gordon Creek Potential ACEC, and Beckwith Plateau Potential ACEC are proposed for designation under at least one action alternative. Resource use limitations would vary by alternative and relate to livestock grazing, leasing for oil and gas; disposal of mineral materials, locatable mineral entry, OHV use, and VRM. Use limitations for ROWs within the Beckwith Plateau Potential ACEC would vary by alternative, and protective measures would have to be taken within the Gordon Creek Potential ACEC before surface-disturbing activities could occur.

The Temple-Cottonwood-Dugout Wash Potential ACEC, Nine Mile Canyon Potential ACEC, and the Range Creek Potential ACEC are proposed for designation under at least one action alternative. Resource use limitations relate to oil and gas leasing, OHV use, disposal of mineral materials, and locatable mineral entry. Within the Range Creek potential ACEC, public access would be limited to hiking and horseback riding only. The Nine Mile Canyon Potential ACEC would have restrictions relating to VRM and cultural resources as well.

The Cleveland-Lloyd Dinosaur Quarry Potential ACEC would be designated in all action alternatives. Resource use limitations would vary by alternative and relate to public access, OHV use, construction of facilities, recreation, oil and gas leasing, disposal of mineral materials, locatable mineral entry; and collection of nonrenewable resources.

The Heritage Sites Potential ACEC and the Uranium Mining Districts Potential ACEC would be designated under Alternatives C and D. Resource use limitations for the Heritage Sites Potential ACEC relate to oil and gas leasing, locatable mineral entry, disposal of mineral materials, ROW grants, land treatments and range improvements, and VRM. Resource use limitations for the Uranium Mining Districts Potential ACEC relate to firewood collection, livestock use, oil and gas leasing, disposal of mineral materials, locatable mineral entry, and cultural resources.

Dated: October 18, 2005.
Jeff Rawson,
Acting State Director.

[FR Doc. E5-7254 Filed 12-12-05; 8:45 am]

BILLING CODE 4310-DK-P